DEPARTMENT OF TRANSPORTATION

Federal Aviation Administration

Eighth Meeting: RTCA Special Committee (231) Terrain Awareness Warning Systems (TAWS)

AGENCY: Federal Aviation Administration (FAA), U.S. Department of Transportation (DOT).

ACTION: Notice of eighth RTCA Special Committee 231 meeting.

SUMMARY: The FAA is issuing this notice to advise the public of the Eighth RTCA Special Committee 231 meeting.

DATES: The meeting will be held February 9-12, 2016 from 9:00 a.m.-5:00 p.m.

ADDRESSES: The meeting will be held at Hilton Garden Inn, Phoenix North/Happy Valley, 1940 W. Pinnacle Peak Road, Phoenix, AZ 85027, Tel: (202) 330-0654.

FOR FURTHER INFORMATION CONTACT: The RTCA Secretariat, 1150 18th Street NW., Suite 910, Washington, DC 20036, or by telephone at (202) 833-9339, fax at (202) 833-9434, or Web site at http://www.rtca.org or Harold Moses, Program Director, RTCA, Inc., hmoses@rtca.org, (202) 330-0654.

SUPPLEMENTARY INFORMATION: Pursuant to section 10(a)(2) of the Federal Advisory Committee Act (Pub. L. 92-463, 5 U.S.C., App.), notice is hereby given for a meeting of RTCA Special Committee 231. The agenda will include the following:

Tuesday, February 9, 2016 (9:00 a.m.-5:00 p.m.)

1. Welcome/Introduction

2. Administrative Remarks

3. Agenda Review

4. Summary of Working Group activities

5. Other Business

6. Date and Place of Next Meeting

Wednesday, February 10, 2016 (9:00 a.m.-5:00 p.m.)

1. Continuation of Plenary or Working Group Session

Thursday, February 11, 2016 (9:00 a.m.-5:00 p.m.)

1. Continuation of Plenary or Working Group Session

Friday, February 12, 2016 (9:00 a.m.-4:00 p.m.)

1. Continuation of Plenary or Working Group Session

Attendance is open to the interested public but limited to space availability. With the approval of the chairman, members of the public may present oral statements at the meeting. Plenary information will be provided upon request. Persons who wish to present statements or obtain information should contact the person listed in the FOR FURTHER INFORMATION CONTACT section. Members of the public may present a written statement to the committee at any time.

Issued in Washington, DC, on January 11, 2016.
Latasha Robinson,
Management & Program Analyst, NextGen, Enterprise Support Services Division, Federal Aviation Administration.

[FR Doc. 2016-00625 Filed 1-13-16; 8:45 am]

BILLING CODE 4910-13-P